NUCLEAR REGULATORY COMMISSION

[Docket No. NRC-2014-0024]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on February 19, 2014.

1. Type of submission, new, revision, or extension: Revision.

2. The title of the information collection: 10 CFR Part 26, “Fitness-for-Duty Programs.”

3. Current OMB approval number: 3150-0146.

4. The form number if applicable: Not applicable.

5. How often the collection is required: Annually and on occasion.

6. Who will be required or asked to report: (1) Licensees authorized to operate a nuclear power reactor; (2) licensees authorized to possess, use, or transport formula quantities of strategic special nuclear material (SSNM) under part 70 of Title 10 of the Code of Federal Regulations (10 FR); Corporations, firms, partnerships, limited liability companies, associations, or other organizations that obtain a certificate of compliance or an approved compliance plan under 10 CFR part 76, if the entity engages in activities involving formula quantities of SSNM; (3) combined license applicants (10 CFR part 52) who have been issued a limited work authorization (LWA, § 50.10(e)); combined license holders before the Commission has made the finding under of § 52.103(g); construction permit applicants who have been issued a LWA (§ 50.10) and construction permit holders (10 CFR part 50); and, early site permit holders who have been issued an LWA, all under specific circumstances; and, (4) contractor/vendors (C/V) who implement fitness-for-duty (FFD) programs or program elements, to the extent that licensees and other entities rely upon those C/V FFD programs or program elements to meet the requirements of this part.

7. An estimate of the number of annual responses: 411,209 (129 reporting responses + 411,015 third-party disclosure responses + 65 recordkeepers).

8. The estimated number of annual respondents: 98,630 respondents (30 drug and alcohol programs + 23 fatigue management programs + 12 HHS-certified laboratories + 98,565 third-party respondents).

9. An estimate of the total number of hours needed annually to complete the requirement or request: 623,943.1 hours (6,165.0 hours reporting + 314,218.8 hours recordkeeping + 303,559.1 hours third-party disclosure).

10. Abstract: The NRC's regulations in 10 CFR part 26 prescribe requirements to establish, implement, and maintain FFD programs at affected licensees and other entities. The objectives of these requirements are to provide reasonable assurance that persons subject to the rule are trustworthy, reliable, and not under the influence of any substance, legal or illegal, or mentally or physically impaired from any cause, which in any way could adversely affect their ability to safely and competently perform their duties. These requirements also provide reasonable assurance that the effects of fatigue and degraded alertness on individual's abilities to safely and competently perform their duties are managed commensurate with maintaining public health and safety. The information collections required by part 26 are necessary to properly manage FFD programs and to enable effective and efficient regulatory oversight of affected licensees other entities. These licensees and other entities must perform certain tasks, maintain records, and submit reports to comply with part 26 drug and alcohol provisions and fatigue management requirements. These records and reports are necessary to enable regulatory inspection and evaluation of a licensee's or entity's compliance with the NRC's regulations, its FFD performance, and of any significant FFD-related event to help maintain public health and safety, promote the common defense and security, and protect the environment.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by August 20, 2014. Comments received after this date will be considered if it is practical to do so, but assurance of consideration cannot be given to comments received after this date.

Danielle Y. Jones, Desk Officer, Office of Information and Regulatory Affairs (3150-0146), NEOB-10202, Office of Management and Budget, Washington, DC 20503.

Comments can also be emailed to Danielle_Y_Jones@omb.eop.gov or submitted by telephone at 202-395-1741.

The Acting NRC Clearance Officer is Brenda Miles, telephone: 301-415-7884.

Dated at Rockville, Maryland, this 15th day of July 2014.
For the Nuclear Regulatory Commission.
Brenda Miles,
Acting NRC Clearance Officer, Office of Information Services.

[FR Doc. 2014-16989 Filed 7-18-14; 8:45 am]

BILLING CODE 7590-01-P